SMALL BUSINESS ADMINISTRATION

Revocation of License of Small Business Investment Company

Pursuant to the authority granted to the United States Small Business Administration by the Wind-Up Order of the United States District Court for the Northern District of California, San Jose Division, dated September 2, 2010, the United States Small Business Administration hereby revokes the license of Aspen Ventures III, L.P., a Delaware Limited Partnership, to function as a small business investment company under the Small Business Investment Company License No. 09790420 issued to Aspen Ventures III, L.P. on September 16, 1994 and said license is hereby declared null and void as of September 2, 2010.

U.S. Small Business Administration.
Dated: April 26, 2011.
Sean J. Greene,
Associate Administrator for Investment.

[FR Doc. 2011-10494 Filed 4-29-11; 8:45 am]

BILLING CODE 8025-01-P